NUCLEAR WASTE TECHNICAL REVIEW BOARD

Board Meeting

Board meeting: January 28, 2009-Las Vegas, Nevada; The U.S. Nuclear Waste Technical Review Board will meet to discuss repository tunnel stability and “burnup” credit related to Department of Energy plans for a proposed repository for spent nuclear fuel and high level radioactive waste at Yucca Mountain in Nevada.

Pursuant to its authority under section 5051 of Public Law 100-203, Nuclear Waste Policy Amendments Act of 1987, the U.S. Nuclear Waste Technical Review Board will meet in Las Vegas, Nevada, on Wednesday, January 28, 2009. The focus of the meeting is expected to be repository tunnel stability and issues related to burnup credit. Burnup is the amount of energy produced in a nuclear reactor per unit weight of nuclear fuel. The Board will review U.S. Department of Energy (DOE) activities related to these and other issues as part of the Board's ongoing technical evaluation of DOE's proposed plans for disposing of spent nuclear fuel and high-level radioactive waste (HLW) in a permanent repository at Yucca Mountain in Nevada.

The Board was charged in the Nuclear Waste Policy Amendments Act of 1987 with conducting an independent review of the technical and scientific validity of DOE activities related to the implementation of the Nuclear Waste Policy Act, including transporting, packaging, and disposing of spent nuclear fuel and HLW.

The Board meeting will be held at the Marriott Suites Convention Center; 325 Convention Center Drive; Las Vegas, Nevada 89109; (tel) 702-650-2000, (fax) 702-6509466.

A detailed meeting agenda will be available on the Board's Web site, http://www.nwtrb.gov, approximately one week before the date of the meeting. The agenda also may be obtained by telephone request at that time. The meeting will be open to the public, and opportunities for public comment will be provided.

Board Chairman B. John Garrick will call the meeting to order at 8 a.m. Dr. Garrick's remarks will be followed by a DOE program overview and science update. The balance of the morning agenda will be devoted to discussions of drift stability, thermal conductivity of drift collapse material, and the effects of the presence of drift collapse material on waste package temperatures. After lunch, issues related to the allowance of burnup credit will be discussed, and an update of the Welding-Closure Cell work will be presented.

Time will be set aside at the end of the day for public comments. Those wanting to speak are encouraged to sign the “Public Comment Register” at the check-in table. A time limit may have to be set on individual remarks, but written comments of any length may be submitted for the record.

Transcripts of the meeting will be available on the Board's Web site, by e-mail, on computer disk, and on a library-loan basis in paper format from Davonya Barnes of the Board's staff no later than February 16, 2009.

A block of rooms has been reserved for meeting attendees at the Marriott Suites. When making a reservation, please state that you will be attending the Nuclear Waste Technical Review Board meeting, Group Code: NWT. Reservations should be made by Monday, January 5, 2009, to ensure receiving the meeting rate. To make reservations, call 1-800-228-9290.

For more information, contact Karyn Severson, NWTRB External Affairs; 2300 Clarendon Boulevard, Suite 1300; Arlington, VA 22201-3367; (tel) 703-235-4473; (fax) 703-235-4495.

Dated: December 12, 2008.
William D. Barnard,
Executive Director, Nuclear Waste Technical Review Board.

[FR Doc. E8-29909 Filed 12-17-08; 8:45 am]

BILLING CODE 6820-AM-M